DEPARTMENT OF COMMERCE

International Trade Administration

University of California, Berkeley et al.; Notice of Decision on Application for Duty-Free Entry of Scientific Instruments

This is a decision pursuant to Section 6(c) of the Educational, Scientific, and Cultural Materials Importation Act of 1966 (Pub. L. 89-651, as amended by Pub. L. 106-36; 80 Stat. 897; 15 CFR part 301). Related records can be viewed between 8:30 a.m. and 5:00 p.m. in Room 3720, U.S. Department of Commerce, 14th and Constitution Ave. NW, Washington, DC.

Docket Number: 17-019. Applicant: University of California, Berkeley, Berkeley, CA 94720. Instrument: High Field Cryogen-Free Measurement System (CFMS) for Precision Measurement of Physical Properties. Manufacturer: Cryogenic US, LLC., United Kingdom. Intended Use: See notice at 83 FR 45104, September 5, 2018. Comments: None received. Decision: Approved. We know of no instruments of equivalent scientific value to the foreign instruments described below, for such purposes as this is intended to be used, that was being manufactured in the United States at the time of order. Reasons: The instrument will be used to study thin films of metal-oxides for advanced oxide-based electronic devices, magnetic and electrical properties of oxide materials and devices at low temperatures and/or high magnetic fields. Angle dependent magnetoelectric properties of the devices will be explored on multiple axes. The investigations done with this instrument will lead to advancement of understanding of the properties of metal-oxide thin films and their interfaces for new generation of oxide-based microelectronic devices.

Dated: October 15, 2018.
Gregory Campbell,
Director, Subsidies Enforcement, Enforcement and Compliance.

[FR Doc. 2018-22972 Filed 10-19-18; 8:45 am]

BILLING CODE 3510-DS-P